DEPARTMENT OF LABOR

Employment and Training Administration

Agency Information Collection Activities; Comment Request; ETA 5130, Benefit Appeals Report; Extension With Revision (OMB Control No. 1205-0172). This Report Has Removed All Occurrences of Federal Emergency Unemployment Compensation Program, Which Expired on January 1, 2014

ACTION: Notice.

SUMMARY: The Department of Labor (DOL), Employment and Training Administration, is soliciting comments concerning a proposed extension for the authority to conduct the information collection request (ICR) titled, “Benefits Appeals Report.” This comment request is part of continuing Departmental efforts to reduce paperwork and respondent burden in accordance with the Paperwork Reduction Act of 1995 (PRA), 44 U.S.C. 3501 et seq.

DATES: Consideration will be given to all written comments received by October 4, 2016.

ADDRESSES: A copy of this ICR with applicable supporting documentation; including a description of the likely respondents, proposed frequency of response, and estimated total burden may be obtained free by contacting Stephanie Garcia by telephone at (202) 693-3207 (this is not a toll-free number) or by email at Garcia.Stephanie@dol.gov.

Submit written comments about, or request a copy of, this ICR by mail or courier to the U.S. Department of Labor, Employment and Training Administration, Room S-4524, 200 Constitution Avenue NW., Washington, DC 20210; or by email to Garcia.Stephanie@dol.gov.

Authority: 44 U.S.C. 3506(c)(2)(A).

SUPPLEMENTARY INFORMATION: The DOL, as part of continuing efforts to reduce paperwork and respondent burden, conducts a pre-clearance consultation program to provide the general public and Federal agencies an opportunity to comment on proposed and/or continuing collections of information before submitting them to the OMB for final approval. This program helps to ensure requested data can be provided in the desired format, reporting burden (time and financial resources) is minimized, collection instruments are clearly understood, and the impact of collection requirements can be properly assessed.

I. Background

The ETA-5130, Benefit Appeals Report, contains information on the number of unemployment insurance appeals and the resultant decisions classified by program, appeals level, cases filed and disposed of (workflow), and decisions by level, appellant, and issue. The data on this report are used by the Department of Labor to monitor the benefit appeals process in the State Workforce Agencies (SWAs) and to develop any needed plans for remedial action. The data are also needed for workload forecasts and to determine administrative funding. If this information were not available, developing problems might not be discovered early enough to allow for timely solutions and avoidance of time consuming and costly corrective action.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB 1205-0172.

Submitted comments will also be a matter of public record for this ICR and posted on the Internet, without redaction. The DOL encourages commenters not to include personally identifiable information, confidential business data, or other sensitive statements/information in any comments.

The DOL is particularly interested in comments that:

* Evaluate whether the proposed collection of information is necessary for the proper performance of the functions of the agency, including whether the information will have practical utility;

* Evaluate the accuracy of the agency's estimate of the burden of the proposed collection of information;

* Enhance the quality, utility, and clarity of the information to be collected; and

* Minimize the burden of the collection of information on those who are to respond, including through the use of automated collection techniques or other forms of information technology.

Type of Review: Extension with revision.

Agency: Employment and Training Administration.

Title of Collection: Benefit Appeals Report.

Agency Form Number: ETA 5130.

OMB Control Number: 1205-0172.

Affected Public: State Workforce Agencies.

Estimated Number of Respondents: 53.

Frequency: Monthly.

Total Responses: 53 respondents × 12 responses per year = 636 responses for the regular program, 53 respondents × 12 responses per year = 636 responses for the Federal-State extended benefit program for an estimated total of 1,272 responses.

Estimated Total Burden Hours: 1 hour.

Total Burden Cost (capital/startup): $0.

Total Burden Cost (operating/maintaining): $0.

Total Annual Estimated Burden Hours: 1,272 hours (636 hours for the ETA 5130 Regular report + 636 hours for the ETA 5130 Federal-State Extended Benefits report).

Portia Wu,
Assistant Secretary for Employment and Training Administration.

[FR Doc. 2016-18659 Filed 8-4-16; 8:45 am]

BILLING CODE 4510-FW-P